FEDERAL RESERVE SYSTEM

Formations of, Acquisitions by, and Mergers of Savings and Loan Holding Companies

The companies listed in this notice have applied to the Board for approval, pursuant to the Home Owners' Loan Act (12 U.S.C. 1461 et seq.) (HOLA), Regulation LL (12 CFR part 238), and Regulation MM (12 CFR part 239), and all other applicable statutes and regulations to become a savings and loan holding company and/or to acquire the assets or the ownership of, control of, or the power to vote shares of a savings association and nonbanking companies owned by the savings and loan holding company, including the companies listed below.

The applications listed below, as well as other related filings required by the Board, are available for immediate inspection at the Federal Reserve Bank indicated. The application also will be available for inspection at the offices of the Board of Governors. Interested persons may express their views in writing on the standards enumerated in the HOLA (12 U.S.C. 1467a(e)). If the proposal also involves the acquisition of a nonbanking company, the review also includes whether the acquisition of the nonbanking company complies with the standards in section 10(c)(4)(B) of the HOLA (12 U.S.C. 1467a(c)(4)(B)). Unless otherwise noted, nonbanking activities will be conducted throughout the United States.

Unless otherwise noted, comments regarding each of these applications must be received at the Reserve Bank indicated or the offices of the Board of Governors not later than June 30, 2016.

A. Federal Reserve Bank of Minneapolis (Jacquelyn K. Brunmeier, Assistant Vice President) 90 Hennepin Avenue, Minneapolis, Minnesota 55480-0291.

1. TCB Mutual Holding Company, Tomahawk, Wisconsin, and its wholly owned savings and loan holding company subsidiary, TCB Financial, Inc., Tomahawk, Wisconsin, to indirectly acquire Merrill Federal Savings & Loan Association, Merrill, Wisconsin, a mutual institution, through the merger of Merrill Federal Savings & Loan Association with and into Tomahawk Community Bank S.S.B., Tomahawk, Wisconsin, a wholly owned subsidiary of TCB Mutual Holding Company and TCB Financial, Inc.

Board of Governors of the Federal Reserve System, May 31, 2016.
Michele Taylor Fennell,
Assistant Secretary of the Board.

[FR Doc. 2016-13187 Filed 6-3-16; 8:45 am]

BILLING CODE 6210-01-P